DEPARTMENT OF TRANSPORTATION

Federal Aviation Administration

[Docket No. FAA-2022-0559; Notice of Availability Docket No. 22-ANE-6]

Notice of Availability of the Final Environmental Assessment (Final EA)/Finding of No Significant Impact (FONSI) and Record of Decision (ROD) for a New Instrument Approach Procedure (IAP), Referred to as the Area Navigation (RNAV) Global Positioning System (GPS) Runway 4 Left (4L) Procedure, to Runway 4L at Boston Logan International Airport (BOS)

AGENCY: Federal Aviation Administration, (FAA), Department of Transportation.

ACTION: Notice of availability.

SUMMARY: The FAA, Eastern Service Center, is issuing this notice to advise the public of the availability of the Final Environmental Assessment (Final EA) and FAA's Finding of No Significant Impact (FONSI)/Record of Decision (ROD) to implement a new RNAV GPS arrival procedure to Runway 4L at BOS.

FOR FURTHER INFORMATION CONTACT: Veronda Johnson, Federal Aviation Administration, Operations Support Group, Eastern Service Center, 1701 Columbia Avenue, College Park, Georgia 30337, (404) 305-5598. Additional information about the FAA's actions and environmental review of this project is available at the following website: FAABostonWorkshops.com.

SUPPLEMENTARY INFORMATION: The Final EA responds to agency and public comments received by the FAA and it updates the Draft EA, issued on September 21, 2020. The Final EA and FONSI/ROD documents that the Proposed Action is consistent with FAA Order 1050.1F, Environmental Impacts: Policies and Procedures and with existing national environmental policies and objectives set forth in section 101 of the National Environmental Policy Act of 1969, 42 U.S.C. 4321 et seq. (NEPA), Council on Environmental Quality regulations, 40 CFR parts 1500-1508, the requirements of section 106 of the National Historic Preservation Act, and all other applicable special purpose laws. The Proposed Action will not significantly affect the quality of the human environment or otherwise include any condition requiring consultation pursuant to Section 102(2)(C) of NEPA, and that an Environmental Impact Statement (EIS) is therefore not necessary. The FONSI/ROD documents the FAA's decision to implement the Proposed Action alternative as detailed in and supported by the Final EA. The proposed instrument approach procedure will enhance public aviation safety by providing pilots with lateral and vertical electronic guidance to ensure a stabilized approach to landing, particularly during marginal and poor weather conditions. The proposed instrument approach procedure will also reduce delays at the Airport by reducing the number of flights that must be canceled during times of poor weather, resulting in an increase in efficiency at the airport as well as the National Airspace System (NAS) as a whole.

Availability: The Final EA and FONSI/ROD are available for review at the following locations:

(1) Online at FAABostonWorkshops.com.

(2) Electronic Versions of the Final EA and FONSI/ROD have been sent to eleven libraries in the vicinity of BOS with a request to make the digital document available to patrons. A list of these libraries is available online at the website above and is shown below. The FAA recognizes that libraries may be closed due to the COVID-19 public health emergency and, therefore, availability through these libraries may be impacted.

Boston Public Library, Central Library, 700 Boylston St., Boston, MA

Boston Public Library, Codman Square, 690 Washington St., Boston, MA

Boston Public Library, Fields Corner, 1520 Dorchester Avenue, Dorchester, MA

Boston Public Library, Grove Hall, 41 Geneva Avenue, Boston, MA

Boston Public Library, Lower Mills, 27 Richmond St., Boston, MA

Boston Public Library, Mattapan, 1350 Blue Hill Avenue, Boston, MA

Boston Public Library, Roxbury, 149 Dudley St., Roxbury, MA

Boston Public Library, South Boston, 646 E Broadway, South Boston, MA

Boston Public Library, South End, 685 Tremont St., Boston, MA

Milton Public Library, 476 Canton Avenue, Milton, MA

Thomas Crane Public Library, 40 Washington St., Quincy, MA

(3) If you are unable to access the documentation through one of these means, email Veronda.Johnson@faa.gov to request a copy of the document.

Veronda Johnson,
EPS, Operations Support Group, Eastern Service Center, Air Traffic Organization.

[FR Doc. 2022-09324 Filed 4-29-22; 8:45 am]

BILLING CODE 4910-13-P